DEPARTMENT OF TRANSPORTATION

National Highway Traffic Safety Administration

Petition To Modify an Exemption of a Previously Approved Antitheft Device; General Motors Corporation

AGENCY: National Highway Traffic Safety Administration,Department of Transportation (DOT).

ACTION: Grant of a petition to modify an exemption from the Parts Marking Requirements of a previously approved antitheft device.

SUMMARY: On July 12, 2005, the National Highway Traffic Safety Administration (NHTSA) granted in full General Motors Corporation's (GM) petition to exempt the Chevrolet Cobalt vehicle line from the parts-marking requirements of the vehicle theft prevention standard (See 70 FR 40102). The exemption was granted because the agency determined that the antitheft device proposed to be placed on the line as standard equipment was likely to be as effective in reducing and deterring motor vehicle theft as compliance with the parts-marking requirements of the Theft Prevention Standard. On August 24, 2005, GM petitioned the agency to amend the exemption currently granted for the Chevrolet Cobalt vehicle line. NHTSA is granting in full GM's petition to modify the exemption because it has determined that the modified antitheft device to be placed on the Chevrolet Cobalt line as standard equipment will also likely be as effective in reducing and deterring motor vehicle theft as compliance with the parts-marking requirements.

DATES: The exemption granted by this notice is effective beginning with model year (MY) 2006.

FOR FURTHER INFORMATION CONTACT: Ms. Deborah Mazyck, Office of International Policy, Fuel Economy and Consumer Programs, NHTSA, 400 Seventh Street, SW., Washington, DC 20590. Ms. Mazyck's phone number is (202) 366-0846. Her fax number is (202) 493-2290.

SUPPLEMENTARY INFORMATION: On July 12, 2005, NHTSA published in the Federal Register a notice granting in full the petition from GM for an exemption from the parts-marking requirements of the Theft Prevention Standard (49 CFR 541) for the MY 2005 Chevrolet Cobalt vehicle line. The Chevrolet Cobalt is equipped with the Passlock III antitheft device (See 70 FR 40102).

This notice grants in full GM's August 24, 2005, petition to modify the exemption of the previously granted petition for the MY 2006 Chevrolet Cobalt. GM's August 24, 2005, submission is a complete petition, as required by 49 CFR Part 543.9(d), in that it meets the general requirements contained in 49 CFR Part 543.5 and the specific content requirements of 49 CFR Part 543.6. GM's petition provides a detailed description of the identity, design and location of the components of the antitheft system proposed for installation beginning with the 2006 model year.

The current antitheft device (Passlock III) installed on the Chevrolet Cobalt is a passively activated, transponder-based electronic immobilizer system. GM stated that its current device uses a standard ignition key to rotate a specially coded ignition switch. Before the vehicle can be operated, the electrical code in the ignition switch must be read and determined to match the value stored in the decoder module.

The electrical code in the ignition switch is provided by resistive elements enabled by the lock cylinder. When a key with the proper mechanical cut is inserted in the lock cylinder and rotated from “RUN” to “Crank”, the resistive code will become readable by the decoder module. When the decoder module recognizes a valid code, fuel flow is enabled and the vehicle can be operated.

In its petition to modify its exemption, GM stated that it proposes to install its Chevrolet Cobalt vehicle line with its PASS-Key III+ antitheft device for MY 2006. The PASS-Key III+ device is designed to be active at all times without direct intervention by the vehicle operator. The antitheft device is fully armed immediately after the ignition has been turned off and the key removed and it will continue to provide protection against unauthorized starting and fueling of the vehicle engine.

Components of the modified antitheft device include a special ignition key and decoder module. Before the vehicle can be operated, the key's electrical code must be properly sensed and decoded by the PASS-Key III+ control module. The ignition key contains electronics molded into the key head. These electronics receive energy and data from the control module. Upon receipt of the data, the key will calculate a response to the data using secret information and an internal encryption algorithm, and transmit the response back to the vehicle. The controller module translates the radio frequency signal received from the key into a digital signal and compares the received response to an internally calculated value. If the values match, the key is recognized as valid, and vehicle starting is allowed.

GM stated that although its modified antitheft device provides protection against unauthorized starting and fueling of the vehicle, it does not provide any visible or audible indication of unauthorized entry by means of flashing vehicle lights or sounding of the horn. Since the system is fully operational once the vehicle has been turned off, specific visible or audible reminders beyond key removal reminders have not been provided.

Based on comparison of the reduction in the theft rates of GM vehicles using a passive theft deterrent device with an audible/visible alarm system to the reduction in theft rates for GM vehicle models equipped with a passive antitheft device without an alarm, GM finds that the lack of an alarm or attention attracting device does not compromise the theft deterrent performance of a system such as PASS-Key III+. The agency has previously agreed with the finding that the absence of a visible or audible alarm has not prevented these antitheft devices from being effective protection against theft.

In addressing the specific content requirements of 543.6, GM provided information on the reliability and durability of its proposed device. To ensure reliability and durability of the device, GM conducted tests based on its own specified standards. GM also provided a detailed list of the tests conducted and believes that the device is reliable and durable since the device complied with its specified requirements for each test. Additionally, GM stated that its proposed device is reliable and durable because the components are validated for a vehicle life of 10 years and 150,000 miles of performance. GM stated that for reliability/durability purposes, its key and key cylinders must also meet unique strength tests against attempts of mechanical overriding. The PASS-Key III+ device performs the same function as its predecessors, however it uses a higher level of electrical sophistication to provide a key, which is protected from electrical duplication.

GM compared its MY 2006 antitheft device with devices which NHTSA has already determined to be as effective in reducing and deterring motor vehicle theft as would compliance with the parts-marking requirements. To substantiate its beliefs as to the effectiveness of the new device, GM compared the MY 2006 modified device to its “PASS-Key”-like systems. GM indicated that the theft rates, as reported by the Federal Bureau of Investigation's National Crime Information Center, are lower for GM models equipped with the “PASS-Key”-like systems which have exemptions from the parts-marking requirements of 49 CFR Part 541, than the theft rates for earlier models with similar appearance and construction which were parts-marked. Based on the performance of the PASS-Key, PASS-Key II, and PASS-Key III systems on other GM models, and the advanced technology utilized by the modification, GM believes that the MY 2006 antitheft device will be more effective in deterring theft than the parts-marking requirements of 49 CFR Part 541. Additionally, GM stated that the PASS-Key III+ system has been designed to enhance the functionality and theft protection provided by GM's first, second, and third generation PASS-Key, PASS-Key II, and PASS-Key III systems.

On the basis of this comparison, GM stated that the antitheft device (PASS-Key III+) for model years 2006 and later will provide essentially the same functions and features as found on its MY 2005 Passlock III device and therefore, its modified device will provide at least the same level of theft prevention as parts-marking. GM believes that the antitheft device proposed for installation on its MY 2006 Chevrolet Cobalt vehicle line is likely to be as effective in reducing thefts as compliance with the parts-marking requirements of Part 541.

The agency has evaluated GM's MY 2006 petition to modify the exemption for the Chevrolet Cobalt vehicle line from the parts-marking requirements of 49 CFR Part 541, and has decided to grant it. It has determined that the PASS-Key III+ system is likely to be as effective as parts-marking in preventing and deterring theft of these vehicles, and therefore qualifies for an exemption under 49 CFR Part 543. The agency believes that the modified device will continue to provide four of the five types of performance listed in Section 543.6(b)(3): Promoting activation; preventing defeat or circumventing of the device by unauthorized persons; preventing operation of the vehicle by unauthorized entrants; and ensuring the reliability and durability of the device.

NHTSA suggests that if the manufacturer contemplates making any changes the effects of which might be characterized as de minimis, it should consult the agency before preparing and submitting a petition to modify.

Authority: 49 U.S.C. 33106; delegation of authority at 49 CFR 1.50.

Issued on: January 23, 2006.
Stephen R. Kratzke,
Associate Administrator for Rulemaking.

[FR Doc. E6-1071 Filed 1-27-06; 8:45 am]

BILLING CODE 4910-59-P